DEPARTMENT OF TRANSPORTATION

Federal Highway Administration

Notice of Final Federal Agency Actions on Proposed Highway in California

AGENCY: Federal Highway Administration (FHWA), DOT.

ACTION: Notice of Limitation on Claims for Judicial Review of Actions by FHWA, and other Federal Agencies.

SUMMARY: This notice announces actions taken by the FHWA, USACE, and other Federal agencies that are final within the meaning of 23 U.S.C. 139(l)(1). The actions relate to a proposed highway project to widen State Route 99 from the existing four-lane facility to six lanes from the Austin Road interchange in the City of Manteca (post mile 4.9) to the Arch Road interchange in the City of Stockton (post mile 15.0), in San Joaquin County, State of California. Those actions grant licenses, permits, and approvals for the project.

DATES: By this notice, the FHWA is advising the public of final agency actions subject to 23 U.S.C. 139(l)(1). A claim seeking judicial review of the Federal agency actions on the highway project will be barred unless the claim is filed on or before November 10, 2010. If the Federal law that authorizes judicial review of a claim provides a time period of less than 180 days for filing such claim, then that shorter time period still applies.

FOR FURTHER INFORMATION CONTACT: For FHWA: Dominic Hoang, Project Development Engineer, FHWA, 650 Capitol Mall, #4-100, Sacramento, CA 95814; weekdays 7 a.m. to 4 p.m. (Pacific time); telephone (916) 498-5002; e-mail: dominic.hoang@dot.gov. For the California Department of Transportation: Gail Miller, Senior Environmental Planner, California Department of Transportation (Caltrans), 2015 E. Shields Avenue #100, Fresno, CA 93726; weekdays 8 a.m. to 5 p.m. (Pacific time); telephone (559) 243-8274; e-mail: gail_miller@dot.ca.gov.

SUPPLEMENTARY INFORMATION: Notice is hereby given that the FHWA, and other Federal agencies have taken final agency actions subject to 23 U.S.C. 139(l)(1) by issuing licenses, permits, and approvals for the following highway project in the State of California. The State Route 99 Manteca Widening Project would provide congestion relief along a stretch of State Route 99 from the Austin Road interchange to the Arch Road interchange, improve future traffic operations, and provide route continuity. This would be accomplished by widening State Route 99 from a four-lane facility to a six-lane facility with structural and operational improvements to interchanges within the project limits. The actions by the Federal agencies and the laws under which such actions were taken are described in the Environmental Assessment (EA)/Finding of No Significant Impact (FONSI) for the project, approved on March 10, 2010, and in other documents in the FHWA administrative record. The EA/FONSI and other documents are available by contacting FHWA or Caltrans at the addresses provided above. The FHWA EA/FONSI can be viewed and downloaded from the project Web site at: http://www.dot.ca.gov/dist10/environmental/projects/99widening/index.html.

This notice applies to all Federal agency decisions as of the issuance date of this notice and all laws under which such actions were taken, including but not limited to:

1. General: National Environmental Policy Act (NEPA) [42 U.S.C. 4321- 4351]; and Federal-Aid Highway Act [23 U.S.C. 109 and 23 U.S.C. 128].

2. Air: Clean Air Act [42 U.S.C. 7401- 7671(q)].

3. Land: Landscape and Scenic Enhancement (Wildflowers) [23 U.S.C. 319].

4. Wetlands and Water Resources: Clean Water Act, 33 U.S.C. 1251-1377 (Section 404, Section 401, Section 319); Wetlands Mitigation [23 U.S.C. 103(b)(6)(m) and 133(b)(11)]; Land and Water Conservation Fund (LWCF), 16 U.S.C. 4601-4604; Flood Disaster Protection Act, 42 U.S.C. 4001-4128; and Safe Drinking Water Act [42 U.S.C. 300(f)-300(j)(6)].

5. Wildlife: Endangered Species Act [16 U.S.C. 1531-1544 and Section 1536]; Fish and Wildlife Coordination Act [16 U.S.C. 661-667(d)]; and Migratory Bird Treaty Act [16 U.S.C. 703-712].

6. Historic and Cultural Resources: Section 106 of the National Historic Preservation Act of 1966, as amended [16 U.S.C. 470(f) et seq.]; Archaeological and Historic Preservation Act [16 U.S.C. 469-469c]; Archaeological Resources Protection Act of 1979 [16 U.S.C. 470 et seq.]; and Native American Graves Protection and Repatriation Act [25 U.S.C. 3001-3013].

7. Social and Economic: Civil Rights Act of 1964 [42 U.S.C. 2000(d)- 2000(d)(1)]; Farmland Protection Policy Act [7 U.S.C. 4201-4209]; American Indian Religious Freedom Act [42 U.S.C. 1996]; and The Uniform Relocation Assistance and Real Property Acquisition Act of 1970, as amended.

8. Hazardous Materials: Comprehensive Environmental Response, Compensation, and Liability Act [42 U.S.C. 9601 9675]; Superfund Amendments and Reauthorization Act of 1986; and Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of the Cultural Environment; E.O. 13007 Indian Sacred Sites; E.O.

(Catalog of Federal Domestic Assistance Program Number 20.205, Highway Planning and Construction. The regulations implementing Executive Order 12372 regarding intergovernmental consultation on Federal programs and activities apply to this program.)

Authority: 23 U.S.C. 139(l)(1).

Issued on: May 10, 2010.
Cindy Vigue,
Director, State Programs, Federal Highway Administration, Sacramento, California.

[FR Doc. 2010-11547 Filed 5-13-10; 8:45 am]

BILLING CODE 4910-RY-P